DEPARTMENT OF ENERGY

Federal Energy Regulatory Commission

Combined Notice of Filings

Take notice that the Commission has received the following Natural Gas and Oil Pipeline Rate and Refund Report filings:

Filings Instituting Proceedings

Docket Numbers: PR23-69-000.

Applicants: Dow Intrastate Gas Company.

Description: § 284.123(g) Rate Filing: Petition for Rate Approval to be effective 9/1/2023.

Filed Date: 9/1/23.

Accession Number: 20230901-5152.

Comment Date: 5 p.m. ET 9/22/23.

Protest Date: 5 p.m. ET 10/31/23.

Docket Numbers: PR23-70-000.

Applicants: BBT Alabama, LLC.

Description: § 284.123 Rate Filing: BBT Alabama Petition Rate Approval Filing to be effective 9/1/2023.

Filed Date: 9/1/23.

Accession Number: 20230901-5195.

Comment Date: 5 p.m. ET 9/22/23.

Docket Numbers: PR23-71-000.

Applicants: Columbia Gas of Ohio, Inc.

Description: § 284.123 Rate Filing: COH Rates effective Aug 29 2023 to be effective 8/29/2023.

Filed Date: 9/5/23.

Accession Number: 20230905-5004.

Comment Date: 5 p.m. ET 9/26/23.

Docket Numbers: RP23-972-000.

Applicants: ExxonMobil Oil Corporation, Nesson Gathering System LLC, XTO Energy Inc.

Description: Joint Petition for Limited Waiver of Capacity Release Regulations, et al. of ExxonMobil Oil Corporation, et al.

Filed Date: 9/1/23.

Accession Number: 20230901-5139.

Comment Date: 5 p.m. ET 9/13/23.

Docket Numbers: RP23-1029-000.

Applicants: Natural Gas Pipeline Company of America LLC.

Description: § 4(d) Rate Filing: Amendments to Non-Conforming Agreements—Devon, EOG, Targa to be effective 9/1/2023.

Filed Date: 9/1/23.

Accession Number: 20230901-5110.

Comment Date: 5 p.m. ET 9/13/23.

Docket Numbers: RP23-1031-000.

Applicants: Viking Gas Transmission Company.

Description: § 4(d) Rate Filing: Amendment to Non-Conforming Agreement AF0059 to beeffective 11/1/2023.

Filed Date: 9/5/23.

Accession Number: 20230905-5008.

Comment Date: 5 p.m. ET 9/18/23.

Docket Numbers: RP23-1032-000.

Applicants: Osaka Gas Trading & Export LLC.

Description: Petition for Limited Waiver of the Buy/Sell Prohibition of Osaka Gas Trading & Export LLC.

Filed Date: 9/1/23.

Accession Number: 20230901-5223.

Comment Date: 5 p.m. ET 9/13/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-749-000.

Applicants: MountainWest Overthrust Pipeline, LLC.

Description: Report Filing: supplemental filing, meter point groups to be effective N/A.

Filed Date: 9/5/23.

Accession Number: 20230905-5077.

Comment Date: 5 p.m. ET 9/18/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: September 5, 2023.
Debbie-Anne A. Reese,
Deputy Secretary.

[FR Doc. 2023-19586 Filed 9-11-23; 8:45 am]

BILLING CODE 6717-01-P